DEPARTMENT OF AGRICULTURE

Submission for OMB Review; Comment Request

The Department of Agriculture will submit the following information collection requirement(s) to OMB for review and clearance under the Paperwork Reduction Act of 1995, Public Law 104-13 on or after the date of publication of this notice. Comments are requested regarding: (1) whether the collection of information is necessary for the proper performance of the functions of the agency, including whether the information will have practical utility; (2) the accuracy of the agency's estimate of burden including the validity of the methodology and assumptions used; (3) ways to enhance the quality, utility and clarity of the information to be collected; and (4) ways to minimize the burden of the collection of information on those who are to respond, including through the use of appropriate automated, electronic, mechanical, or other technological collection techniques or other forms of information technology.

Comments regarding these information collections are best assured of having their full effect if received by May 24, 2024. Written comments and recommendations for the proposed information collection should be submitted within 30 days of the publication of this notice on the following website www.reginfo.gov/public/do/PRAMain. Find this particular information collection by selecting “Currently under 30-day Review—Open for Public Comments” or by using the search function.

An agency may not conduct or sponsor a collection of information unless the collection of information displays a currently valid OMB control number and the agency informs potential persons who are to respond to the collection of information that such persons are not required to respond to the collection of information unless it displays a currently valid OMB control number.

National Agricultural Statistics Service (NASS)

Title: Vegetable Surveys—Substantive Change.

OMB Control Number: 0535-0037.

Summary of Collection: The primary function of the National Agricultural Statistics (NASS) is to prepare and issue current official state and national estimates of crop and livestock production, prices and disposition. The Vegetable Surveys Program obtains basic agricultural statistics for fresh market and processing vegetables in major producing States. The vegetable program has two types of utilization: some crops are processing only, some are fresh market only, and others are dual crops (both processing and fresh market). The vegetable program surveys growers, who are contacted in November and asked to report acres planted and harvested, quantity of vegetables produced, and how much of their crop was sold through fresh markets or for processing along with the correlating prices.

The National Agricultural Statistics Service (NASS) is requesting a substantive change to the Vegetable Surveys information collection request (OMB No. 0535-0037) for program changes. Every five years NASS conducts a program review following the completion of the Census of Agriculture. The program changes balance resources across all of the programs included in the annual estimating program, which represents over 400 individual reports across multiple Information Collection Requests (ICRs). This substantive change is to accommodate the vegetable program changes that affect this ICR. The methodology, publication dates, burden and data collection plan do not change as result of these program changes.

Need and Use of the Information: NASS will collect information to estimate acreage intended to plant, acreage planted, acreage harvested, yield/production, price, and utilization for the various crops. The estimates provide vital statistics for growers, processors, and marketers to use in making production and marketing decisions.

Description of Respondents: Farms.

Number of Respondents: 11,140.

Frequency of Responses: Annually; Other (seasonally).

Total Burden Hours: 4,998.

National Agricultural Statistics Service (NASS)

Title: Objective Yield Surveys—Substantive Change.

OMB Control Number: 0535-0088.

Summary of Collection: General authority for these data collection activities is granted under U.S. Code title 7, section 2204 which specifies that “The Secretary of Agriculture shall procure and preserve all information concerning agriculture which he can obtain . . . by the collection of statistics . . .”. The primary objective of the National Agricultural Statistics Service (NASS) is to provide data users with timely and reliable agricultural production and economic statistics, as well as environmental and specialty agricultural related statistics. To accomplish this objective, NASS relies on the use of diverse surveys that show changes within the farming industry over time.

The primary functions of the National Agricultural Statistics Services' (NASS) are to prepare and issue State and national estimates of crop and livestock production, disposition, and prices and to collect information on related environmental and economic factors. The Field Crops Production Program consists of probability field crops surveys and supplemental panel surveys. These surveys are extremely valuable for commodities where acreage and yield are published at the county level. NASS will use surveys to collect information through a combination of the internet, mail, telephone, and personnel interviews. The general authority for these data collection activities is granted under U.S. Code title 7, section 2204.

The National Agricultural Statistics Service (NASS) is requesting a substantive change to the Field Crops Production information collection request (OMB No. 0535-0088) for program changes. Every five years NASS conducts a program review following the completion of the Census of Agriculture. The program changes in this change request balance resources across all of the programs included in the annual estimating program ensuring NASS' annual statistical program aligns with its appropriation. This substantive change is to accommodate the field crop program changes that affect this ICR. The changes in this request decreases burden hours.

Need and Use of The Information: Sample fields are randomly selected for these crops, plots are laid out, and periodic counts and measurements are taken and then used to forecast production during the growing season. Production forecasts are published in USDA crop reports. The estimates provide vital statistics for growers, processors, and marketers to use in making production and marketing decisions.

Description of Respondents: Farms.

Number of Respondents: 12,550.

Frequency of Responses: Reporting: Annually, Monthly.

Total Burden Hours: 4,062.

National Agricultural Statistics Service (NASS)

Title: Agricultural Surveys Program—Substantive Change.

OMB Control Number: 0535-0213.

Summary of Collection: General authority for these data collection activities is granted under U.S. Code title 7, section 2204 which specifies that “The Secretary of Agriculture shall procure and preserve all information concerning agriculture which he can obtain . . . by the collection of statistics . . .”. The primary objective of the National Agricultural Statistics Service (NASS) is to provide data users with timely and reliable agricultural production and economic statistics, as well as environmental and specialty agricultural related statistics. To accomplish this objective, NASS relies on the use of diverse surveys that show changes within the farming industry over time.

The National Agricultural Statistics Service (NASS) is requesting a substantive change to the Agricultural Surveys Program information collection request (OMB No. 0535-0213) for program changes. Every five years NASS conducts a program review following the completion of the Census of Agriculture. The program changes in this change request balance resources across all of the programs included in the annual estimating program ensuring NASS' annual statistical program aligns with its appropriation. This substantive change is to accommodate the livestock program changes that affect this ICR. The changes in this request decreases burden hours.

Need and Use of the Information: The surveys provide the basis for estimates of the current season's crop and livestock production and supplies of grain in storage. Crop and livestock statistics help develop a stable economic atmosphere and reduce risk for production, marketing, and distribution operations. These commodities affect the well being of the nation's farmers, commodities markets, and national and global agricultural policy. Users of agricultural statistics are farm organizations, agribusiness, state and national farm policy makers, and foreign buyers of agricultural products but the primary user of the statistical information is the producer. Agricultural statistics are also used to plan and administer other related federal and state programs in such areas as school lunch program, conservation, foreign trade, education, and recreation. Collecting the information less frequent would eliminate needed data to keep the government and agricultural industry abreast of changes at the state and national levels.

Description of Respondents: Farms and Ranches.

Number of Respondents: 491,600.

Frequency of Responses: Reporting: Quarterly; Semi-annually; Monthly; Annually.

Total Burden Hours: 178,479.

Levi S. Harrell,
Departmental Information Collection Clearance Officer.

[FR Doc. 2024-08704 Filed 4-23-24; 8:45 am]

BILLING CODE 3410-20-P